DEPARTMENT OF THE INTERIOR

National Park Service

[NPS-WASO-NAGPRA-15730; PPWOCRADN0-PCU00RP14.R50000]

Notice of Inventory Completion: Thomas Burke Memorial Washington State Museum, University of Washington, Seattle, WA

AGENCY: National Park Service, Interior.

ACTION: Notice.

SUMMARY: The Thomas Burke Memorial Washington State Museum, University of Washington (Burke Museum), has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Burke Museum. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Burke Museum at the address in this notice by July 24, 2014.

ADDRESSES: Peter Lape, Burke Museum, University of Washington, Box 353010, Seattle, WA 98195-3010, telephone (206) 685-3849, email plape@uw.edu.

SUPPLEMENTARY INFORMATION: Notice is here given in accordance with the Native American Graves Protection and Repatriation Act (NAGPRA), 25 U.S.C. 3003, of the completion of an inventory of human remains under the control of the Burke Museum. The human remains were removed from San Juan County, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Burke Museum professional staff in consultation with representatives of the Lummi Tribe of the Lummi Reservation; Samish Indian Nation (previously listed as the Samish Indian Tribe, Washington); and the Swinomish Indian Tribal Community (previously listed as the Swinomish Indians of the Swinomish Reservation, Washington).

History and Description of the Remains

In 1987, human remains representing, at minimum, one individual were removed from the shell midden site 45-SJ-11 on San Juan Island in San Juan County, WA. The human remains were collected by Gary C. Wessen while on contract with the San Juan County Parks Department. The human remains are one human phalanx. No burials were documented at the time of excavation; this phalanx appears to be an isolated find. The human remains were transferred to the Burke Museum and accessioned in 2005 (Burke Accn. #2005-111). No known individuals were identified. No associated funerary objects are present.

Archeological evidence indicates that the human remains are Native American. The radiocarbon date obtained from the same stratum (Stratum II) as the human remains is 560BP +/− 50 years. The data suggest that use of the site ended shortly before historic times, with no evidence of a historic occupation component (Wessen 1988). Burial of human remains in or in close proximity to a shell midden is consistent with Coast Salish Native American burial practices in the San Juan Islands.

Site 45-SJ-11 is located on the western coast of San Juan Island in an area that is considered part of the Gulf of Georgia Culture Area. Linguistically, Native American speakers of the Northern Straits Salish dialects claim cultural heritage to the San Juan Islands. Historical and anthropological sources (Stein 2000:6; Suttles 1990:456) indicate that the Songees, Saanich, Lummi, and Samish all had winter villages in the southern Gulf and San Juan Islands. Spier (1936) and Swanton (1952: 445) documented that the Swallah's aboriginal territory included San Juan Island; the Swallah later joined the Lummi (Ruby and Brown 1986: 229; Suttles 1990:456). Amoss (1978) and Suttles (1951:14) state that western San Juan Island was the aboriginal territory of the Songish. The Songish are a Canadian First Nations group and do not have standing under NAGPRA. The Lummi were signatories to the 1855 Point Elliot Treaty. Today, the Lummi are represented by the Lummi Tribe of the Lummi Reservation.

Determinations Made By the Burke Museum

Officials of the Burke Museum have determined that:

• Based on archeological evidence, the human remains have been determined to be Native American.

• Pursuant to 25 U.S.C. 3001(9), the human remains described in this notice represent the physical remains of one individual of Native American ancestry.

• Pursuant to 25 U.S.C. 3001(2), there is a relationship of shared group identity that can be reasonably traced between the Native American human remains and the Lummi Tribe of the Lummi Reservation.

Additional Requestors and Disposition

Lineal descendants or representatives of any Indian tribe or Native Hawaiian organization not identified in this notice that wish to request transfer of control of these human should submit a written request with information in support of the request to Peter Lape, Burke Museum, University of Washington, Box 353010, Seattle, WA 98195-3010, telephone (206) 685-3849, email plape@uw.edu, by July 24, 2014. After that date, if no additional requestors have come forward, transfer of control of the human remains to the Lummi Tribe of the Lummi Reservation may proceed.

The Burke Museum is responsible for notifying the Lummi Tribe of the Lummi Reservation; Samish Indian Nation (previously listed as the Samish Indian Tribe, Washington); and the Swinomish Indian Tribal Community (previously listed as the Swinomish Indians of the Swinomish Reservation, Washington) that this notice has been published.

Dated: May 5, 2014.
David Tarler,
Acting Manager, National NAGPRA Program.

[FR Doc. 2014-14747 Filed 6-23-14; 8:45 am]

BILLING CODE 4312-50-P